DEPARTMENT OF HEALTH AND HUMAN SERVICES

Meeting of the Advisory Committee on Blood Safety and Availability

AGENCY: Office of the Secretary.

ACTION: Notice of Meeting.

The Advisory Committee on Blood Safety and Availability will meet on Thursday, January 25, 2001 and Friday, January 26, 2001, from 8:00 a.m. to 5:00 p.m.. The meeting will take place at the Hyatt Regency Hotel on Capitol Hill, 400 New Jersey Ave., NW., Washington, DC 20001. The meeting will be entirely open to the public.

The Advisory Committee will consider how the government should respond to the current public debate over universal leukoreduction.

Public comment will be solicited at the meeting. Public comment will be limited to five minutes per speaker. Those who wish to have printed material distributed to Advisory Committee members should submit thirty (30) copies to the Executive Secretary prior to close of business January 11, 2001.

FOR FURTHER INFORMATION CONTACT: Stephen D. Nightingale, M.D., Executive Secretary, Advisory Committee on Blood Safety and Availability, Department of Health and Human Services, Office of Public Health and Science, 200 Independence Avenue, S.W., Rm 736E, Washington, D.C. 20201. Phone (202) 690-5560 FAX (202) 690-7560 e-mail StephenDNightingale@osophs.dhhs.gov.

Dated: October 6, 2000.
Stephen D. Nightingale,
Executive Secretary, Advisory Committee on Blood Safety and Availability.

[FR Doc. 00-26739 Filed 10-17-00; 8:45 am]

BILLING CODE 4160-17-M